DEPARTMENT OF AGRICULTURE

Federal Crop Insurance Corporation

Request for Applications (RFA): Risk Management and Crop Insurance Education

AGENCY: Federal Crop Insurance Corporation, USDA.

ACTION: Announcement of availability of funds and request for applications under two programs—(1) Commodity Partnerships for Risk Management Education and (2) Crop Insurance Education in Targeted States.

SUMMARY: In accordance with sections 552(d) and 524(a) of the Federal Crop Insurance Act (Act), the Federal Crop Insurance Corporation (FCIC), operating through the Risk Management Agency (RMA), announces the availability of funding for two educational and informational programs:

1. Commodity Partnerships for Risk Management Education (Commodity Partnerships program). FCIC announces the availability of up to $3.5 million for partnership agreements for risk management training and informational activities, with a priority for reaching agricultural producers of (a) agricultural commodities covered by section 196 of the Agricultural Market Transition Act (7 U.S.C. 7333); (b) specialty crops; and (c) underserved commodities. (For purposes of these announcements, these commodities are collectively referred to as “Priority Commodities.”) A maximum of thirty-nine partnership agreements will be funded: One in each of thirty-five specific States, one in Puerto Rico, and one in each of three multi-state areas. Recipients of awards must demonstrate non-financial benefits from a partnership agreement and must agree to the substantial involvement of RMA in the project.

2. Crop Insurance Education in Targeted States (Targets States program). FCIC announces the availability of up to $4.25 million for cooperative agreements that will be used to conduct crop insurance education and information programs in fifteen States that have been determined to have low participation or are underserved by the Federal crop insurance program. The fifteen States are Connecticut, Delaware, Maine, Maryland, Massachusetts, Nevada, New Hampshire, New Jersey, New York, Pennsylvania, Rhode Island, Utah, Vermont, West Virginia, and Wyoming. Funding will be limited for each of the fifteen States and a maximum of one cooperative agreement will be funded for each State. Recipients of awards must agree to the substantial involvement of RMA in the project.

Awards under both of these programs will be made on a competitive basis for projects of up to one year. This announcement lists the information needed to submit an application under either of these programs.

Closing Dates: The closing date and time for receipt of applications for both programs is 5 p.m. EDT on July 28, 2003. Applications received after the deadline will not be evaluated by the technical review panel.

FOR FURTHER INFORMATION CONTACT: Applicants and other interested parties are encouraged to contact: Michelle Fuller, USDA-RMA-RME, 1400 Independence Ave. SW., Stop 0808, (Portals Bldg., Suite 508), Washington, DC 20250-0808, phone: 202-720-6356, fax: 202-690-3605, e-mail: michelle.fuller@wdc.usda.gov. You may also obtain information regarding this announcement from the RMA website at: http://www.rma.usda.gov.

Applicants may download an application package for either of the two programs from the RMA Web site at: http://www.rma.usda.gov. Applicants may also request an application package from: Michelle Fuller, USDA-RMA-RME, 1400 Independence Ave. SW., Stop 0808, (Portals Bldgs., Suite 508), Washington, DC 20250-0808, phone: 202-720-6356, fax: 202-690-3605, email:michelle.fuller@wdc.usda.gov.<mailto:michelle.fuller@wdc.usda.gov.>

Applicants are strongly encouraged to submit completed and signed application packages using overnight mail or delivery service to ensure timely receipt by the USDA. The applicable address for such submissions is: RME Agreement Programs, c/o Michelle Fuller, USDA-RMA-RME, 1250 Maryland Ave. SW., Suite 508, Washington, DC 20024.

Completed and signed application packages sent via the U.S. Postal Service must be sent to the following address: RME Agreement Programs, c/o Michelle Fuller, USDA-RMA-RME, 1400 Independence Ave. SW., Stop 0808, (Portals Bldg. Suite 508), Washington, DC 20250-0808. Applicants using the U.S. Postal Service should allow for extra security-processing time for mail delivered to government offices.

Paperwork Reduction Act

Under the provisions of the Paperwork Reduction Act of 1995, as amended (44 U.S.C. chapter 25), the collection of information requirements contained in this announcement have been approved under OMB Document Nos. 0348-0043, 0348-0044, 0348-0046, and 0348-0040.

The Catalog of Federal Domestic Assistance Number for these programs is 10.450.

SUPPLEMENTARY INFORMATION: This announcement consists of five parts:

Part I—Information for the Commodity Partnerships Program

A. General Information

1. Legislative Authority

2. Background

3. Project Goal

4. Purpose

5. Definition of Priority Commodities

B. Eligibility/Funding

1. Eligible Applicants

2. Non-financial Benefits

3. Project Period

4. Availability of Funds and Amounts

C. Program Description

1. Recipient Activities

2. RMA Activities

3. Other Activities

Part II—Information for the Targeted States Program

A. General Information

1. Legislative Authority

2. Background

3. Project Goal

4. Purpose

B. Eligibility/Funding

1. Eligible Applicants

2. Project Period

3, Availability of Funds and Amounts

C. Program Description

1. Recipient Activities

2. RMA Activities

3. Other Activities

Part III—Preparation of an Application

A. Program Application Materials

B. Content of Applications

C. Submission of Applications

D. Acknowledgment of Applications

Part IV—Review Process

A. General

B. Evaluation Criteria and Weights

C. Confidentiality

Part V—Additional Information

A. Requirement to Use Program Logo

B. Requirement to Provide Project Information to an RMA-selected Contractor

C. Private Crop Insurance Organizations and Potential Conflicts of Interest

D. Access to Panel Review Information

E. Notification of Cooperative Agreement Awards

F. Confidential Aspects of Proposals and Awards

G. Reporting Requirements

H. Audit Requirements

I. Prohibitions and Requirements with Regarding to Lobbying

J. Applicable OMB Circulars

Part I—Information for the Commodity Partnership Program

A. General Information

1. Legislative Authority

The Commodity Partnership program is authorized under section 552(d)(3)(F) of the Federal Crop Insurance Act (Act).

2. Background

RMA promotes and regulates sound risk management solutions to improve the economic stability of American agriculture. On behalf of FCIC, RMA does this by offering Federal crop insurance products through a network of private-sector partners, overseeing the creation of new risk management products, seeking enhancement in existing products, ensuring the integrity of crop insurance programs, offering outreach programs aimed at equal access and participation of underserved communities, and providing risk management education and information.

One of RMA's four strategic goals is to ensure that its customers are well informed as to the risk management solutions available. This educational goal is supported by section 522(d)(3)(F) of the Act, which authorizes FCIC funding for risk management training and informational efforts for agricultural producers through the formation of partnerships with public and private organizations. With respect to such partnerships, a priority is to be given to producers of Priority Commodities (as specified in subsection 5 of this section).

3. Project Goal

The goal of this program is to ensure that “* * * producers will be better able to use financial management, crop insurance, marketing contracts, and other existing and emerging risk management tools.”

4. Purpose

The purpose of this program is to provide U.S. farmers and ranchers (with an emphasis on producers of Priority Commodities) with training and informational opportunities to be able to understand:

• The kinds of risks addressed by existing and emerging risk management tools;

• The features and appropriate use of existing and emerging risk management tools; and

• How to make sound risk management decisions.

Each partnership agreement awarded through this program will provide the applicant with funds, guidance, and the substantial involvement of RMA to carry out a risk management education and information program for producers in a specific geographical area. RMA envisions that most of the training and informational activitiers under these partnership agreements will be conducted during the November 2003 through March 2004 period, which will be the best time to reach producers with educational programs in most areas. However, activities are not restricted to this time period because certain groups of producers might benefit from a different schedule of educational activities. RMA anticipates that project leaders will have sufficient time to organize and schedule events, commit funds to reserve event facilities, gather materials, raise awareness, and otherwise make the preparations needed to ensure good producer participation in all planned educational activities. Most of all, RMA anticipates that project leaders will prepare by fostering the cooperation and active support of organizations with close ties to local producers. Support from such organizations is essential in influencing local producers to participate in the type of activities envisioned in this educational program. A maximum of thirty-nine partnership agreements will be awarded: One each in thirty-five specific States and one in Puerto Rico (collectively referred to as the “States”), and one each in three multi-state areas (referred to as the “area”). A maximum amount of funding will be available for each of the States and area. The specific States and areas are identified in part I.B.4.

Projects funded through this program are envisioned to include the participation of multiple and diverse partners within the specific States and areas. Partners should include public and private agricultural organizations in the State or area with a state in ensuring that agricultural producers have increased knowledge and skill in dealing with production, price, and financial risk. RMA specifically encourages applicants to address the needs of beginning farmers and ranchers as an important element of the project. Over the past year, livestock and forage producers and livestock producers who use rangeland in certain regions of the U.S. have suffered unusually large financial losses from the effects of prolonged drought. These producers are in special need of education and information on the programs, tools, and risk management strategies that will assist them in dealing with drought. Therefore, RMA is specifically seeking projects for these producers in the States of Montana, South Dakota, Arizona, Multi-state Area 1 (Utah, Nevada, and Wyoming), New Mexico, Texas, Idaho, Oregon, Colorado, Louisiana, and Nebraska. The selection of these States and areas was based on those States and area experiencing severe, extreme, or exceptional drought over a significant area, as identified by the U.S. Drought Monitor of June 3, 2003. Consequently, projects directed to producers of livestock and forage and livestock producers who use rangeland with respect to drought risk mitigation in the above States and areas will be awarded bonus points in the evaluation process. Details are provided in part IV.B.5.

5. Definition of Priority Commodities

For purposes of this program, Priority Commodities are defined as:

Agricultural commodities covered by (7 U.S.C. 7333). Commodities in this group are commercial crops that are not covered by catastrophic risk protection crop insurance, are used for food or fiber (except livestock), and specifically include, but are not limited to, floricultural, ornamental nursery, Christmas trees, turf grass sod, aquaculture (including ornamental fish), and industrial crops.

Specialty crops. Commodities in this group may or may not be covered under a Federal crop insurance plan and include, but are not limited to, fruits, vegetables, tree nuts, syrups, honey, roots, herbs, and highly specialized varities of traditioinal crops.

Underserved commodities. This group includes: (a) Commodities including livestock and forage, that are covered by a Federal crop insurance plan but for which participation in an area is below the national average; and (b) commodities, including livestock, with inadequate crop insurance coverage.

A project is considered as giving priority to Priority Commodities if the majority of the educational activities of the project are directed to producers of any of the three classes of commodities listed above or any combination of the three classes.

B. Eligibility/Funding

1. Eligible Applicants

Eligible applicants include State departments of agriculture, universities, non-profit agricultural organizations, and other public or private organizations with the capacity to lead a local program of risk management education for farmers and ranchers in a specific State or area. Individuals are not eligible applicants. Applicants may apply to deliver education in more than one State or area, but a separate application must be submitted for each State or area.

Although an applicant may be eligible to compete for an award based on its status as an eligible entity, other factors may exclude an applicant from receiving Federal assistance under this program (e.g., debarment and suspension; a determination of non-performance on a prior contract, cooperative agreement, grant or partnership; a determination of a violation of applicable ethical standards).

2. Non-Financial Benefits

To be eligible, applicants must also be able to demonstrate that they will receive a non-financial benefit as a result of a partnership agreement. Non-financial benefits must accrue to the applicant and must include more than the ability to provide employment income to the applicant or for the applicant's employees or the community. The applicant must demonstrate that performance under the partnership agreement will further the specific mission of the applicant (such as providing research or activities necessary for graduate or other students to complete their educational program).

3. Project Period

Each project will be funded for a period of up to one year from the project starting date for the activities described in this announcement.

4. Availability of Funds and Amounts

Up to $3,500,000 is available in fiscal year 2003 to fund up to 39 partnership agreements. A maximum of one agreement will be funded for each of 35 specific States, Puerto Rico, and three multi-state areas. It is expected that the awards will be made approximately 60 days after the application deadline. All awards will be made and agreements approved and signed no later than September 30, 2003.

Partnership or cooperative agreement funds may not be used to:

a. Plan, repair, rehabilitate, acquire, or construct a building or facility including a processing facility;

b. To purchase, rent, or install fixed equipment;

c. Repair or maintain privately owned vehicles;

d. Pay for the preparation of the partnership or cooperative agreement application;

e. Fund political activities;

f. Pay costs incurred prior to receiving a partnership or cooperative agreement;

g. Fund any activities prohibited in 7 CFR Parts 3015 and 3019, as applicable.

The approximate funding amount available for each State, Puerto Rico, and multi-state area, along with the RMA Regional Office assigned to those States or areas for purposes of providing substantial involvement, is as follows:

Billings, MT Regional Office:
Montana | $45,000
North Dakota | 50,000
South Dakota | 57,000
Davis, CA Regional Officer:
Arizona | 57,000
California | 356,000
Hawaii | 37,000
Multi-state Area 1* (UT, NV, WY) | 118,000
Jackson, MS Regional Office:
Arkansas | 83,000
Kentucky | 61,000
Louisiana | 47,000
Mississippi | 63,000
Tennessee | 49,000
Oklahoma City, OK Regional Office:
New Mexico | 55,000
Oklahoma | 77,000
Texas | 177,000
Raleigh, NC Regional Office:
North Carolina | 103,000
Virginia | 56,000
Multi-state Area 2 (ME, NH, VT, CT, RI, MA, NY) | 279,000
Multi-state Area 3 (PA, NJ, DE, MD, WV) | 245,000
Spokane, WA Regional Office:
Alaska | 31,000
Idaho | 67,000
Oregon | 70,000
Washington | 92,000
Springfield, IL Regional Office:
Illinois | 53,000
Indiana | 56,000
Michigan | 64,000
Ohio | 68,000
St. Paul, MN Regional Office:
Iowa | 92,000
Minnesota | 79,000
Wisconsin | 93,000
Topeka, KS Regional Office:
Colorado | 81,000
Kansas | 101,000
Missouri | 69,000
Nebraska | 106,000
Valdosta, GA Regional Office:
Alabama | 73,000
Florida | 126,000
Georgia | 89,000
Puerto Rico | 30,000
South Carolina | 45,000
Total | $3,500,000
* The partnership agreement for Multi-state area 1 will also be supported with substantial involvement from RMA's Billings, MT Regional Office.

The funding amount for each State and area was determined by first allocating $30,000 to each State and Puerto Rico, for a total of $1,530,000. The amount remaining from the $3,500,000 available for this program ($1,970,000) was then allocated pro rata to each State's share of cash receipts for Priority Commodities. Receipts for Priority Commodities were estimated by subtracting major program crop receipts from total agricultural receipts for each State using 1999 data.

In the event that additional funds become available under this program or in the event that no application for a given State or area is recommended for funding by the evaluation panel, these additional funds may, at the discretion of the Manger of FCIC, be allocated pro-rata to State or area award recipients by mutual consent for use in broadening the size or scope of awarded projects or may be used to fund more than one project in a State or area.

In the event that the Manager of FCIC determines that available RMA resources cannot support the administrative and substantial involvement requirements of all agreements recommended for funding, the Manager may elect to fund fewer agreements than the available funding might otherwise allow.

C. Program Description

In conducting activities to achieve the purpose and goal of this program in a specific State or area, the award recipient will be responsible for the activities listed under paragraph 1 of this part. FCIC, working through RMA, will be substantially involved in each project through one of RMA's ten Regional Offices and will be specifically responsible for the activities listed under paragraph 2.

1. Recipient Activities

Award recipients will be required to perform the following activities:

• Finalize a risk management education delivery plan that will accomplish the purpose of this program in the designated State or area. The plan must describe the manner in which various tasks for the project will be completed, the dates by which each task will be completed, and the partners that will have responsibility for each task. Task milestones must be listed so as to ensure that progress can be measured at various stages throughout the life of the project. The plan must also provide for the substantial involvement of RMA in the project. (Note: All partnership agreements resulting from this announcement will include delivery plans prepared in a specific table format. All applicants are strongly encouraged to refer to this table format when preparing a delivery plan as part of the application narrative. Copies of the table format are available from the RMA Web site [www.rma.usda.gov] or upon request).

• Assemble risk management instructional materials appropriate for producers in the State or area to be used in delivering education and information. This will include: (a) Gathering existing instructional materials that meet the local needs of agricultural producers of agricultural commodities; (b) identifying gaps in existing instructional materials; and (c) developing new materials or modifying existing instructional materials to fill existing gaps.

• Develop and conduct a promotional program. This program will include activities using media, newsletters, publications, or other informational dissemination techniques that are designed to: (a) Raise awareness for risk management; (b) inform producers of the availability of risk management tools; and (c) inform producers in the State or area of the training and informational opportunities being offered.

• Deliver risk management training and informational opportunities to agricultural producers and agribusiness professionals. This will include organizing and delivering educational activities using the instructional materials identified earlier. Activities should be directed primarily to agricultural producers, but may include those agribusiness professionals that have frequent opportunities to advise farmers on risk management in the State or area.

• Document all educational activities conducted under the partnership agreement and the results of such activities, including criteria and indicators used to evaluate the success of the program. The recipient will also be required to provide information to an RMA-selected contractor to evaluate all educational activities and advise RMA as to the effectiveness of activities.

2. RMA Activities

RMA will be responsible for the following activities:

• Review and approve in advance the recipient's project delivery plan.

• Collaborate with the recipient in assembling risk management materials for producers. This will include: (a) Reviewing and approving in advance all educational materials for technical accuracy; (b) serving on curriculum development workgroups; (c) providing curriculum developers with fact sheets and other risk management publications that have been prepared by RMA; (d) advising the applicant on the materials available over the internet through the AgRisk Education Library; (e) advising the applicant on technical issues related to crop insurance instructional materials; and (f) advising the applicant on the use of the standardized design and layout formats to be used on program materials.

• Collaborate with the recipient on a promotional program for raising awareness for risk management and for informing producers of training and informational opportunities. This will include: (a) Reviewing and approving in advance all promotional plans, materials, and programs; (b) serving on workgroups that plan promotional programs; (c) advising the applicant on technical issues relating to the presentation of crop insurance products in promotional materials; and (d) participating, as appropriate, in media programs designed to raise general awareness or provide farmers with risk management education.

• Collaborate with the recipient on the delivery of education to agricultural producers and agribusiness leaders. This will include: (a) Reviewing and approving in advance all producer and agribusiness educational delivery plans; (b) advising the applicant on technical issues related to the delivery of crop insurance education and information; and (c) assisting the applicant in informing crop insurance professionals about educational plans and scheduled meetings.

• Review and approve recipient's documentation of risk management educational activities.

3. Other Activities

In addition to the specific, required activities listed above, the applicant may suggest other activities that would contribute directly to the purpose of this program. For any additional activity suggested, the applicant should identify the objective of the activity, the specific tasks required to meet the objective, specific time lines for performing the tasks, and the specific responsibilities of partners. The applicant must also identify specific ways in which RMA could have substantial involvement in the proposed educational activity.

Part II—Information for the Targeted States Program

A. General Information

1. Legislative Authority

The Targeted States program is authorized under section 524(a)(2) of the Federal Crop Insurance Act (Act).

2. Background

RMA promotes and regulates sound risk management solutions to improve the economic stability of American agriculture. On behalf of FCIC, RMA does this by offering Federal crop insurance products through a network of private-sector partners, overseeing the creation of new risk management products, seeking enhancements in existing products, ensuring the integrity of crop insurance programs, offering outreach programs aimed at equal access and participation of underserved communities, and providing risk management education and information.

One of RMA's four strategic goals is to ensure that its customers are well informed as to the risk management solutions available. This educational goal is supported by section 524(a) of the Act. This section authorizes funding for the establishment of crop insurance educational and outreach efforts in States that have historically been underserved by Federal crop insurance program. In accordance with the Act, the Secretary of Agriculture determined that fifteen States met the criteria for “underserved” and they are Connecticut, Delaware, Maine, Maryland, Massachusetts, Nevada, New Hampshire, New Jersey, New York, Pennsylvania, Rhode Island, Utah, Vermont, West Virginia and Wyoming (collectively referred to as “Targeted States”).

3. Project Goal

The goal of the Targeted States program is to ensure that farmers and ranchers in the Targeted States are sufficiently informed so as to take full advantage of existing and emerging crop insurance products.

4. Purpose

The purpose of the Targeted States program is to provide farmers and ranchers in Targeted States with education and information to be able to understand:

• The kinds of risk addressed by crop insurance;

• The features of existing and emerging crop insurance products;

• The use of crop insurance in the management of risk; and

• How the use of crop insurance can affect other risk management decisions, such as the use of marketing and financial tools.

Each cooperative agreement awarded through this program will provide the recipient with funds, guidance, and the substantial involvement of RMA to carry out a program to achieve this purpose in a Targeted State.

For some farms in Targeted States, existing crop insurance products are either not available or require enhancements to provide effective protection. The Act envisions new and enhanced insurance products that will meet the needs of these farmers and ranchers. Until these new products are available, producers would still benefit from an educational program that provides an understanding of crop insurance and the basic skills required for making a sound crop insurance decision.

RMA envisions that most of the training and informational activities under these cooperative agreements will be conducted during the November 2003 through March 2004 period, which will be the best time to reach producers with educational programs in most areas. However, activities are not restricted to this time period because certain groups of producers might benefit from a different schedule of educational activities. RMA anticipates that, through these cooperative agreements, project leaders will have sufficient time to organize and schedule events, commit funds to reserve event facilities, gather materials, raise awareness, and otherwise make the preparations needed to ensure good producer participation in all planned educational activities. Most of all, RMA anticipates that project leaders will prepare by fostering the cooperation and active support of organizations with close ties to local producers. Support from such organizations is essential in influencing local producers to participate in the type of activities envisioned in this educational program.

Projects funded through this program are envisioned to include the participation of multiple and diverse partners within the specific Targeted State. Partners should include public and private agricultural organizations in the Targeted State with a stake in ensuring that agricultural producers have increased knowledge and skill in using crop insurance. RMA specifically encourages applicants to address the needs of beginning farmers and ranchers as an important element of the project.

B. Eligibility/Funding

1. Eligible Applicants

Eligibility applicants include State departments of agriculture, universities, non-profit agricultural organizations, and other public or private organizations with the capacity to lead a local program of crop insurance education for farmers and ranchers within a Targeted State. Individuals are eligible applicants. Applicants may apply to deliver education in more than one Targeted State, but a separate application must be submitted for each State. Applications for projects directed to producers outside of the Targeted States will not be considered for funding.

Although an applicant may be eligible to compete for an award based on its status as an eligible entity, other factors may exclude an applicant from receiving Federal assistance under this program (e.g. debarment and suspension; a determination of non-performance on a prior contract, cooperative agreement, grant or partnership; a determination of a violation of applicable ethical standards).

2. Project Period

Each project will be funded for a period of up to one year from the project starting date for the activities described in this announcement.

3. Availability of Funds and Amounts

Approximately $4,250,000 is available in fiscal year 2003 to fund up to 15 projects, a maximum of one project for each of the Targeted States. It is expected that the awards will be made approximately 60 days after the application deadline. All awards will be made and agreements approved and signed no later than September 30, 2003. Partnership or cooperative agreement funds may not be used to:

a. Plan, repair, rehabilitate, acquire, or construct a building or facility including a processing facility;

b. To purchase, rent, or install fixed equipment;

c. Repair or maintain privately owned vehicles.

d. Pay for the preparation of the partnership or cooperative agreement application;

e. Fund political activities;

f. Pay costs incurred prior to receiving a partnership or cooperative agreement;

g. Fund any activities prohibited in 7 CFR Parts 3015 and 3019, as applicable.

The approximate funding amount available for each Targeted State's project is as follows:

Maine | $217,000
New Hampshire | 171,000
Vermont | 218,000
Connecticut | 217,000
Rhode Island | 156,000
Massachusetts | 202,000
New York | 565,000
New Jersey | 258,000
Pennsylvania | 687,000
Maryland | 346,000
Delaware | 249,000
West Virginia | 202,000
Nevada | 201,000
Utah | 284,000
Wyoming | 277,000
Total | 4,250,000

These State funding amounts were determined by first allocating an equal amount of $150,000 to each Targeted State. The remaining funds were allocated on a pro rata basis according to each Targeted State's share of 1999 agricultural cash receipts relative to the total for all Targeted Sales. Both allocations were totaled for each Targeted State and rounded to the nearest $1,000.

In the event that additional funds become available under this program or in the event that no application for a given Targeted State is recommended for funding by the evaluation panel, these additional funds may, at the discretion of the Manager of FCIC, be allocated pro-rata to State award recipients by agreement between RMA and the award recipient for use in broadening the size or scope of awarded projects within the Targeted State or may be used to fund more than one project in a Targeted State.

In the event that the Manager of FCIC determines that available RMA resources cannot support the administrative and substantial involvement requirements of all agreements recommended for funding, the Manager may elect to fund fewer agreements that the available funding might otherwise allow.

C. Program Description

In conducting activities to achieve the purpose and goal of this program in a Targeted State, the award recipient will be responsible for the activities listed under paragraph 1 of this part. FCIC, working through RMA, will be substantially involved in the project and will be specifically responsible for the activities listed under paragraph 2.

1. Recipient Activities

Award recipients will be required to perform the following activities:

• Finalize the crop insurance education delivery plan that will accomplish the purpose of this program in the Targeted State. The plan must describe the manner in which various tasks for the project will be completed, the dates by which each task will be completed, and the partners that will have responsibility for each task. Task milestones must be listed so as to ensure that progress can be measured at various stages throughout the life of the project. The plan must also provide for the substantial involvement of RMA in the project. (Note: All cooperative agreements resulting from this announcement will include delivery plans prepared in a specific table format. All applicants are strongly encouraged to refer to this table format when preparing a delivery plan as part of the application narrative. Copies of the table format are available from the RMA website [www.rma.usda] or upon request.)

• Assemble crop insurance instructional materials for producers in the Targeted State. This will include: (a) Gathering existing instructional materials that meet the local crop insurance needs of agricultural producers; (b) identifying instructional gaps in existing materials; and (c) development new materials or modifying existing materials to fill existing gaps.

• Develop and conduct a promotional program. This program will include activities using media, newsletters, publications, or other appropriate informational dissemination techniques that are designed to: (a) Raise awareness for crop insurance; (b) inform producers of the availability of crop insurance; and (c) inform producers and agribusiness leaders in the Targeted State of the educational activities being offered.

• Deliver education and information to producers and agribusienss professionals. This will include organizing and delivery educational activities using the instructional materials identified earlier. Activities should be directed primarily to agricultural producers, but may include those agribusiness professionals that have frequent opportunities to advise producers on crop insurance in the Targeted State.

• Document all educational activities conducted under the cooperative agreement and the results of such activities, including criteria and indicators used to evaluate the success of the program. The recipient will also be required to provide information to an RMA-selected contractor to evaluate all educational activities and advise RMA as to the effectiveness of activities.

2. RMA Activities

RMA will be responsible for the following activities:

• Review and approve in advance the recipient's project delivery plan.

• Collaborate with the recipient in assembling crop insurance educational materials for producers in the Targeted State. This will include: (a) Reviewing and approving in advance all educational materials for technical accuracy; (b) serving on curriculum development workgroups; (c) providing curriculum developers with fact sheets and other crop insurance publications from RMA; (d) advising the applicant on the materials available over the internet through the AgRisk Education Library; (e) advising the applicant on technical issues related to crop insurance instructional materials; and (f) advising the applicant on the use of the standardized design and layout formats to be used on program materials.

• Collaborate with the recipient on a promotional program for raising awareness on crop insurance and for informing producers of educational opportunities in the Targeted States. This will include: (a) Reviewing and approving in advance all promotional plans, materials, and programs; (b) serving on workgroups that plan promotional programs; (c) advising the applicant on technical issues relating to the presentation of crop insurance products in promotional materials; and (d) participating, as appropriate, in media programs designed to raise general awareness or provide farmers with crop insurance education.

• Collaborate with the recipient on the delivery of education to producers and agribusiness leaders. This will include: (a) Reviewing and approving in advance all educational delivery plans; (b) advising the applicant on technical issues related to crop insurance education and information; and (c) assisting the applicant in informing crop insurance professionals about program delivery plans and scheduled meetings.

• Review and approve recipient's documentation of crop insurance educational activities.

3. Other Activities

In addition to the specific, required activities listed above, the applicant may suggest other activities that would contribute directly to the purpose of this program. For any additional activity suggested, the applicant should identify the objective of the activity, the specific tasks required to meet the objective, specific time lines for performing the tasks, and specific responsibilities of the partners. The applicant must also identify specific ways in which RMA could have substantial involvement in the proposed educational activity.

Part II—Preparation of an Application

A. Program Application Materials

Program application materials for both the Commodity Partnerships and Targeted States programs under this announcement may be downloaded from the RMA Web site at: http://www.rma.usda.gov. Applicants may also request application materials from: Michelle Fuller, USDA-RMA-RME, 1400 Independence Ave. SW., Stop 0808, (Portals Bldg., Suite 508), Washington, DC 20250-0808, phone: (202) 720-6356, fax: (202) 690-3605, e-mail: michelle.fuller@wdc.usda.gov <mailto:michelle.fuller@wdc.usda.gov>.

B. Content of Applications

A complete and valid application package must include an electronic copy (Microsoft Word format) of the narrative portion of the application package on diskette or compact disc and an original and two paper copies of the complete application package, which must include the following:

1. A completed and signed OMB Standard Form 424, “Application for Federal Assistance.”

2. A completed and signed OMB Standard Form 424-A, “Budget Information—Non-construction Programs.” Indirect costs allowed for projects submitted under this announcement will be limited to 10 percent of the total direct cost of the partnership or cooperative agreement. If applying under the Commodity Partnerships program, Federal funding requested (the total of direct and indirect costs) must not exceed the level for the respective State or area, as specified in part I.B.4. If applying under the Targeted states program, Federal funding requested (the total of direct and indirect costs) must not exceed the level for the respective Targeted State, as specified in part II.B.3.

3. A budget and detailed narrative in support of the budget that shows all funding sources and itemized costs for each line item contained on the SF-424-A. All budget categories must be individually listed (with costs) in the same order as the budget and justified on a separate sheet of paper and placed immediately behind the SF-424-A. There must be a detailed breakdown of all costs, including indirect costs. Include budget notes on each budget line item detailing how each line item was derived. Also provide a brief narrative description of any costs that may require explanation (i.e., why specific costs may be higher than market costs). Only items or services that are necessary for the successful completion of the project will be funded as permitted under the Act, the applicable Federal cost principles, and are not prohibited under any other Federal statute. Salaries of project personnel should be requested in proportion to the effort that they will devote to the project.

4. A completed and signed OMB Standard Form 424-B, “Assurances, Non-constructive programs.”

5. [For the Commodity Partnerships program only]: A “Statement of Non-financial Benefits.” (Refer to part I.B.2, “Non-financial Benefits”) This requirement does not apply to applications submitted under the Targeted States program.

6. A narrative title page. This single page can provide: (a) The name of the project; (b) the name of the program under which funding is being requested, either Commodity Partnerships or Targeted States; (c) the specific State or area for which the project will be directed; (d) the organization submitting the application; (e) a listing of project partners; (f) a brief project summary; and (g) information needed to contact the project's leader, including an e-mail address.

7. A written narrative (limited to ten single-sided pages) that describes the educational project in detail, including the program delivery plan. The narrative should provide reviewers with sufficient information to effectively evaluate the merits of the application under the criteria contained in part IV.B. In preparing narratives, applicants are strongly encouraged to carefully review and understand the specific features and authorities governing the specific program for which funds are being requested, as described in this announcement. The narrative should include the circumstances giving rise to the proposed activity; a clear, concise statement of the objectives; the steps necessary to implement the program to attain the objectives; an evaluation plan for the activities; and the management and work plan that describes how the activities will be managed by the applicant. The work plan should identify each objective and the key tasks to achieve the objective, the entity responsible for the task, the completion date, the task location, and RMA's role. Although the two programs have a number of similarities, there are also some important differences. The Commodity Partnership program, for instance, allows education regarding financial management, crop insurance, marketing contracts and other existing and emerging risk management tools. And it requires an emphasis on the training of producers of Priority Commodities, as described in this announcement. The Targeted States program, on the other hand, seeks to reach producers of all commodities in the fifteen Targeted States, but restricts training and informational activities to crop insurance. The narrative should reflect these differences. Also, all partnership and cooperative agreements resulting from this announcement will have delivery plans that are prepared in a specific table format. Therefore, applicants are strongly encouraged to refer to this table format when preparing a delivery plan and to use it in that portion of the application narrative that addresses the delivery plan. A sample narrative, including the table format, is available from the RMA Web site (http://www.rma.usda.gov<http://www.rma.usda.gov>) or upon request.

8. An appendix containing exhibits that the applicant believes will directly support the information provided in the narrative. (Optional under either of the two programs contained in this notice.)

9. A completed and signed OMB Standard From LLL, “Disclosure of Lobbying Activities.”

10. A completed and signed AD-1047, “Certification Regarding Debarment, Suspension and Other Responsibility Matters (Primary Covered Transactions).”

11. A completed and signed AD-1049, “Certification Regarding Drug-Free Workplace.”

Applicants are responsible for ensuring the application materials are received by the closing date. Incomplete application packages will not receive further consideration.

C. Submission of Applications

1. An original and two paper copies of the completed and signed application, and one electronic copy (Microsoft Word Format) of the project narrative on diskette or compact disc must be submitted in one package at the time of initial submission.

2. All applications must be submitted by the deadline. Applications that do not meet all the requirements in this announcement are considered as late applications. Late or incomplete applications will not be considered and will be returned to the applicant.

3. Applications submitted through express, overnight mail or another delivery service will be considered as meeting the announced deadline if they are received in the mailroom at the address stated above for express, overnight mail or another delivery service on or before the deadline. Applicants are cautioned that express, overnight mail or other delivery services do not always deliver as agreed. Applicants should take this into account because failure of such delivery services will not extend the deadline. The address must appear on the envelope or package containing the application with the not “Attention: Risk Management Education Program.”

4. Mailed applications will be considered as meeting the announced deadline if they are received on or before the deadline in the mailroom at the address stated above for mailed applications. Applicants are responsible for mailing applications well in advance, to ensure that applications are received on or before the deadline time and date. Applicants using the U.S. Postal Service should allow for the extra time for delivery due to the additional security measures that mail delivered to government offices in the Washington, DC area now requires.

5. RMA cannot accommodate transmissions of applications by facsimile or through other electronic media. Therefore, applications transmitted electronically will not be accepted regardless of the date or time of submission or the time of receipt.

6. The deadline for receipt of an application is 5 p.m. EDT on July 28, 2003. The application deadline is firm as to date and hour and applies to submission of the original application and two copies.

D. Acknowledgement of Applications

Receipt of applications will be acknowledged by e-mail, whenever possible. Therefore, applicants are encouraged to provide e-mail addresses in the application. If an e-mail address is not indicated on an application, receipt will be acknowledged by letter. There will be no notification of incomplete, unqualified or unfunded applications until the awards have been made.

When received by RMA, applications will be assigned an identification number. This number will be communicated to applicants in the acknowledgement of receipt of applications. An application's identification number should be referenced in all correspondence regarding the application. If the applicant does not receive an acknowledgement within 15 days of the submission deadline, the applicant should contact Michelle Fuller at (202) 720-6356.

Part IV—Review Process

A. General

Each application will be evaluated using a two-part process. First, each application will be screened by RMA personnel to ensure that it meets the requirements in this announcement and sorted. RMA will first sort applications by program (either Commodity Partnership or Targeted States) then by States, area, or Targeted State in which the applicant proposes to conduct the project. Applications that do not meet the requirements of this announcement or are incomplete will not receive further consideration.

Second, a review panel will consider the merits of all applications that meet the requirements in the announcement. The evaluation of each application will be conducted by a panel of not less than three independent reviewers. Reviewers will be drawn from USDA, other federal agencies, and others representing public and private organizations as needed. The narrative and any appendixes provided by each applicant will be used by the review panel to evaluate the merits of the project that is being proposed for funding.

The panel will examine and score applications for each program (Commodity Partnerships and Targeted States) and for each State or area within each program based on the “Evaluation Criteria and Weights” contained in this paragraph B of this part. Each State or area's applications will be evaluated and scored independently.

Applications for each State or area within each program will be evaluated and scored in each of the criteria listed below. The panel will be looking for the specific elements listed with each criterion when evaluating the applications and scoring them. For each application, panel members will assign a point value up to the maximum for each criterion. After all reviewers have evaluated and scored each of the applications, the scores for the entire panel will be averaged to determine an application's final score. After all applications have been rated and scored, a lottery will be used to resolve any instances of a tie total score for the winning application for a given State or area. If such a lottery is required for a given State or area within a program, the names of all tied applicants will be entered into a drawing. The first applicant drawn will be recommended to received a partnership or cooperative agreement for that State or area under the program. The review panel will report to the Manager of FCIC on the results of the evaluation for both the Commodity Partnerships and Targeted States program. For the Commodity Partnership program, the panel's report will include the recommended applicant to receive a partnership agreement for each State or area. For the Targeted States program, the panel's report will include the recommended applicant to receive a cooperative agreement for each Targeted State. If the final score for the highest rated application for a State, area, or Targeted State is less than 50, the panel may, at its discretion, recommend that the Manager not provide funding for that States, area, or Targeted State. The Manager of FCIC will make the final determination on those applications that will be awarded funding.

An organizations, or group of organizations in partnership, may apply for funding under other FCIC or RMA programs, in addition to the programs described in this announcement. However, if the Manager of FCIC determines that an application recommended for funding under either of the two programs of this announcement is sufficiently similar to a project that has been funded or has been recommended to be funded under another RMA or FCIC education or outreach program, then the Manager may elect to not fund that application in whole or in part.

B. Evaluation Criteria and Weights

Applications submitted under both the Commodity Partnerships and Targeted States programs will be evaluated according to the following criteria:

1. Project Management—Maximum 25 Points

The applicant must demonstrate an ability to implement sound and effective project management practices. Higher scores will be awarded to applicants that can demonstrate organizational skills, leadership, and experience in delivering services or programs that assist agricultural producer in the State or area. If the applicant has been a recipient of other Federal or other government grants, cooperative agreements, or contracts, the applicant must also detail that they have consistently complied with financial and program reporting and auditing requirements. Applicants that will employ, or have access to, personnel who have experience in directing agricultural programs or providing educations programs that benefit producers in the State or area will receive higher rankings.

2. Partnering—Maximum 25 Points

The applicant must demonstrate experience and capacity to partner with and gain the support of grower organizations, agribusiness professionals, and agricultural leaders to carry out a local program of education and information in the State or area. Applicants will receive higher scores to the extent that they can document and demonstrate: (a) That partnership commitments are in place for the express purpose of delivering the program in this announcement; (b) that a broad and diverse group of farmers and ranchers will be reached; and (c) that a substantial effort has been made to partner with organizations that can meet the needs of producers that are small, have limited resources, are minorities, or are beginning farmers and ranchers.

3. Delivery Plan—Maximum 25 Points

The applicant must demonstrate that its program delivery plan is clear and specific. For each of the applicant's responsibilities contained in the description of the program for which funds are requested (either part I.C.1 for the Commodity Partnerships program or part II.C.1 for the Targeted States program), the applicant must demonstrate that it can identify specific tasks and provide reasonable time lines that further the purpose of this program. Applicants will obtain a higher score to the extent that the tasks of the project are specific, measurable, and reasonable, have specific time frames for completion, relate directly to the required activities and program objectives described in this announcement, and are sensitive to the needs of producers that are small, have limited resources, are minorities, or are beginning in the farming or ranching business. For guidance on a delivery plan format, applicants are encouraged to refer to a table format available from the RMA Web site (http://www.rma.usda.gov<http://www.rma.usda.gov>) or upon request.

4. Project Benefits—Maximum 25 Points

The applicant must demonstrate that the project benefits to farmers and ranchers in the State or area warrant the funding requested. Applicants will be scored according to the extent they can: (a) Reasonably estimate the number of producers reached through the project; (b) justify the estimates with clear specifics related to the delivery plan; (c) identify the actions producers will likely be able to take as a result of the project; and (d) identify specific measures for evaluating the success of the project. Reviewers' scoring will be based on the scope and reasonableness of the applicants' estimates of producers reached through the project, clear descriptions of specific expected project benefits for producers, and well-constructed plans for measuring the project's effectiveness.

5. Bonus (Drought Mitigation in Selected Areas)—Maximum 20 Points

[Limited to applications under the Commodity Partnership program. Bonus scoring does not apply to applications submitted under the Targeted States program.] Bonus points will be awarded for those applications under the Commodity Partnership program that address the educational needs of producers of livestock and forage and livestock producers who use rangeland with respect to drought risk mitigation. Bonus points will be awarded based on the extent that the project focuses on helping these producers understand the programs, tools, and risk management strategies for effectively managing their operations in the face of drought in the States of Montana, South Dakota, Arizona, Multi-state Area 1 (Utah, Nevada, Wyoming), New Mexico, Texas, Idaho, Oregon, Colorado, Louisiana, and Nebraska.

C. Confidentiality

The names of applicants, the names of individuals identified in the applications, the content of applications, and the panel evaluations of applications will all be kept confidential, except to those involved in the review process, to the extent permitted by law. In addition, the identities of review panel members will remain confidential throughout the entire review process and will not be released to applicants. At the end of the fiscal year, names of panel members will be made available. However, panelists will not be identified with the review of any particular application.

Part V—Additional Information

A. Requirement To Use Program Logo

Applicants awarded partnership or cooperative agreements will be required to use a program logo and design provided by RMA for all instructional and promotional materials.

B. Requirement To Provide Project Information to an RMA-Selected Contractor

Applicants awarded partnership or cooperative agreements will be required to assist RMA in evaluating the effectiveness of its education programs by providing documentation of educational activities and related information to any contractor selected by RMA for program evaluation purposes.

C. Private Crop Insurance Organizations and Potential Conflicts of Interest

Private organizations that are involved in the sale of Federal crop insurance, or that have financial ties to such organizations, are eligible to apply for funding under either of the two educational programs described in this announcement. However, such entities will not be allowed to receive funding to conduct activities that would otherwise be required under a Standard Reinsurance Agreement or any other agreement in effect between FCIC and the entity. Such entities will also not be allowed the receive funding to conduct activities that could be perceived by producers as promoting one company's services or products over another's. If applying for funding, such organizations are encouraged to be sensitive to potential conflicts of interest and to describe in their application the specific actions they will take to avoid actual and perceived conflicts of interest.

D. Access to Panel Review Information

Upon written request from the applicant, scores from the evaluation panel, not including the identify of reviewers, will be sent to the applicant after the review and awards process has been completed.

E. Notification of Cooperative or Partnership Agreement Awards

Following approval by the awarding official of RMA of the applications selected for funding, project leaders whose applications have been selected for funding will be notified. Within the limit of funds available for such a purpose, the awarding official of RMA shall enter into partnership or cooperative agreements with those applicants whose applications are judged to be most meritorious under the procedures set forth in this announcement. The agreements provide the amount of Federal funds for use in the project period, the terms and conditions of the award, and the time period for the project. The effective date of the agreement shall be on the date the agreement is executed by both parties and it shall remain in effect for up to one year. RMA will then extend to award recipients, in writing, the authority to draw down funds for the purpose of conducting the activities listed in the agreement. All funds provided to the applicant by FCIC must be expended solely for the purpose for which the funds are obligated in accordance with the approved agreement and budget, the regulations, the terms and conditions of the award, and the applicability of Federal costs principles. No commitment of Federal assistance beyond the project period is made or implied for any award resulting from this notice. Notification of denial of funding will be sent to applicants after final funding decisions have been made. Reasons for denial of funding can include incomplete proposals, scored low or were duplicative.

F. Confidential Aspects of Proposals and Awards

When an application results in a partnership or cooperative agreement, it becomes a part of the official record of RMA transactions, available to the public upon specific request. Information that the Secretary of Agriculture determines to be of a confidential, privileged, or proprietary nature will be held in confidence to the extent permitted by law. Therefore, any informaion that the applicant wishes to be considered confidential, privileged, or proprietary should be clearly marked within an application, including the basis for such designation. The original copy of a proposal that does not result in an award will be retained by RMA for a period of one year. Other copies will be destroyed. Copies of proposals not receiving awards will be released only with the express written consent of the applicant or to the extent required by law. A proposal may be withdrawn at any time prior to award.

G. Reporting Requirements

Applicants awarded partnership or cooperative agreements will be required to submit quarterly progress and financial reports (OMB Standard Form 269) throughout the project period, as well as a final program and financial report not later than 90 days after the end of the project period.

H. Audit Requirements

Applicants awarded partnership or cooperative agreements are subject to audit.

I. Prohibitions and Requirements With Regard to Lobbying

Section 1352 of Public Law 101-121, enacted on October 23, 1989, imposes prohibitions and requirements for disclosure and certification related to lobbying on recipients of Federal contracts, grants, cooperative agreements, and loans. It provides exemtions for Indian Tribes and tribal organizations. Current and prospective recipients, and any subcontractors, are prohibited from using Federal funds, other than profits from a Federal contract, for lobbying Congress or any Federal agency in connection with the award of a contract, grant, cooperative agreement, or loan. In addition, for each award action in excess of $100,000 ($150,000 for loans) the law requires recipients and any subcontractors: (1) To certify that they have neither used nor will use any appropriated funds for payment of lobbyists; (2) to disclose the name, address, payment details, and purpose of any agreements with lobbyists whom recipients of their subcontractors will pay with profits or other nonappropriated funds on or after December 22, 1989; and (3) to file quarterly up-dates about the use of lobbyists if material changes occur in their use. The law establishes civil penalties for non-compliance. A copy of the certification and disclosure forms must be submitted with the application and are available from Michelle Fuller at the above stated address and telephone number.

J. Applicable OMB Circulars

All partnership and cooperative agreements funded as a result of this notice will be subject to the requirements contained in all applicable OMB circulars.

Signed in Washington, DC, on May 10, 2003.
Ross J. Davidson, Jr.,
Manager, Federal Crop Insurance Corporation.

[FR Doc. 03-14955 Filed 6-12-03; 8:45 am]

BILLING CODE 3410-08-M